DEPARTMENT OF TRANSPORTATION

Federal Aviation Administration

[Docket Number: FAA-2024-0435]

Agency Information Collection Activities: Requests for Comments; Clearance of a Renewed Approval of Information Collection: Pilot Records Improvement Act of 1996/Pilot Record Database

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on March 25, 2024. The collection involves two distinct methods of collecting. The first method of collecting uses the traditional paper/hardcopy forms which is limited in scope. The second method is more expansive and uses online web-based forms or Application Programming Interface (API) upload functionality. The information can then be shared with a potential employer to aid them in their hiring decision-making process. The information collected can be release to a hiring employer by the pilot. Disclosure of their information is not possible unless the pilot first authorizes the release. The information to be collected will be used to and/or is necessary because before allowing an individual to begin service as a pilot, and air carrier or operator shall receive and evaluate all relevant information pertaining to the individual.

DATES: Written comments should be submitted by July 29, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Justin Eddleman by email at: justin.eddleman@faa.gov; prdsupport@faa.gov; phone: 405-954-4173.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0607.

Title: Pilot Records Improvement Act of 1996/Pilot Record Database.

Form Numbers:

FAA FORM 8060-11 AIR CARRIER AND OTHER RECORDS REQUEST (PRIA)

FAA FORM 8060-11A AIRMAN NOTICE AND RIGHT TO RECEIVE COPY—AIR CARRIER AND OTHER RECORDS (PRIA)

FAA FORM 8060-12 AUTHORIZATION FOR RELEASE OF DOT DRUG AND ALCOHOL TESTING RECORDS UNDER PRIA AND MAINTAINED UNDER TITLE 49 CODE OF FEDERAL REGULATIONS (49 CFR) PART 40

FAA FORM 8060-13 NATIONAL DRIVER REGISTER RECORDS REQUEST (PRIA)

FAA FORM 8060-14 PILOT CONSENT/REVOCATION FOR AIR CARRIER ACCESS TO PILOT RECORDS DATABASE

FAA FORM 8060-15 PILOT RECORDS DATABASE PILOT RECORDS DISPUTE SUPPLEMENTAL INFORMATION

Web Based Forms & API Upload:

#1: Drug and Alcohol records reporting

#2: Training, qualification, and proficiency records reporting

#3: Final Disciplinary Action records reporting

#4: NDR records reporting

#5: Date of Hire reporting

#6: Assignment to Duty records reporting

#7: Date of Separation reporting

#8: Employment History records reporting

#10: Pilot Consent form

Type of Review: Renewal of an information collection.

Background: The Federal Register Notice with a 60-day comment period soliciting comments on the following collection of information was published on March 25, 2024 (89 FR 20749). The Pilot Records Improvement Act of 1996 (PRIA) as amended, was enacted to ensure that part 121, 125 and 135 air carriers and air operators adequately investigate a pilot's background before allowing that pilot to conduct commercial air carrier flights for their company. Under PRIA, a hiring employer cannot place a pilot into service until they obtain, review and approve the pilot's background and other safety-related records for the past 5 year period as specified in PRIA. The FAA information disclosed under PRIA are medical and airman certificate verifications and any closed enforcement and revocation data. The air carrier information disclosed under PRIA are those concerning pilot performance and training, disciplinary and removal from service, and drug and alcohol testing records. Records from the Department of Motor Vehicles of any particular State would include records of drug and alcohol convictions. Other records collections such as financial statements, fingerprints and failed check rides may be requested and received but they are outside the purview and scope of PRIA and would be requested using other vehicles than the PRIA forms. PRIA request forms can be received by fax or mail; however, the most common method is by email attachment, one pilot/applicant per one form. As set forth in 49 U.S.C. 44703(i)(1), under the Pilot Records Database (PRD), a hiring employer cannot place a pilot into service until the employer has evaluate all the relevant information in the PRD. PRD relies on a digital and centralized repository containing the pilot information. It also expands on the types of operators that must participate in the sharing of information than that of PRIA. The following official FAA-Records about a pilot are collected; airman certificates and associated ratings, accident and incident information, enforcement information, and drug and alcohol testing. There is also industry collected information about pilots which include; training, qualification, and proficiency Records, final disciplinary records, employment history, and the Motor Vehicle Driving record evaluation date. The PRD facilitates the sharing of pilot records among pilot employers in a clearinghouse managed by the Federal Aviation Administration (FAA). In accordance with part 111, all 14 CFR part 121, 125, 135 certificate holders, 91K operators, air tour operators, and other specific entities operating under part 91 are required to access the PRD to either evaluate a pilot candidate prior to making a hiring decision or to report records. The PRD contains employer and FAA records on an individual's performance as a pilot for the life of the individual. Records contained within the database would only be permitted to be used as a hiring aid in an operator's decision-making process for pilot employment. The pilot has full control of who they release their PRD information to and for how long. Disclosure of their information can only be initiated by the pilot.

Respondents:

Regarding PRIA, the PRIA representative at each part 121, 125 and 135 air carrier is responsible for completing, forwarding, receiving and providing the air carrier with the completed PRIA report so the air carrier can make a more informed hiring decision concerning each pilot/applicant. One complete PRIA package is required for every pilot/applicant. As of December 7, 2021, the FAA no longer processes PRIA requests via Form 8060-10, as this function became available through PRD. Prior to December 7, 2021, the FAA processes approximately 24,120 PRIA packages per year from respondents.

Regarding PRD, the PRD representative at each certificate holder operating under part 121, 125, 135, 91K operators, air tour operators, and other specific entities operating under part 91 is responsible for completing and submitting the PRD employer records to PRD, for each pilot, through the Web based forms or API. Pilots who hold commercial, airline transport, or remote pilot certificates can access PRD and complete web-based forms concerning Employment History records reporting (#8) and Pilot Consent form (#10). If the pilot is unable to access the PRD, the pilot can submit hardcopies of FAA Forms 8060-14 and 8060-15 to prdsupport@faa.gov for processing by the FAA on their behalf. The FAA processes approximately 1,040 FAA forms 8060-14 and ten FAA forms 8060-15 per year from respondents.

Frequency: On occasion.

Estimated Average Burden per Response: 0.07181 hours.

Estimated Total Annual Burden: 385,367.92 hours.

Issued in Oklahoma City, OK, on June 25, 2024.
Justin Eddleman,
PRD/PRIA Program Manager, Safety Analysis & Promotion Division, Automation Systems Management Group, AFS-950.

[FR Doc. 2024-14305 Filed 6-27-24; 8:45 am]

BILLING CODE 4910-13-P